DEPARTMENT OF THE TREASURY

Internal Revenue Service

Tax Counseling for the Elderly (TCE) Program—Availability of Application for Federal Financial Assistance

AGENCY: Internal Revenue Service (IRS), Treasury,

ACTION: Notice.

SUMMARY: This document provides notice of the availability of the application packages for the 2025 Tax Counseling for the Elderly (TCE) Program.

DATES: Application instructions are available electronically from the IRS on May 1, 2024, by visiting: IRS.gov (key word search—“TCE”) or through Grants.gov by searching the Catalog of Federal Domestic Assistance (CFDA) Number 21.006. The deadline for applying to the IRS for the Tax Counseling for the Elderly (TCE) Program is May 31, 2024. All applications must be submitted through Grants.gov.

ADDRESSES: Internal Revenue Service, Grant Program Office—TCE, 401 West Peachtree Street NW, Stop 420-D, Atlanta, Georgia 30308 at tce.grant.office@irs.gov.

SUPPLEMENTARY INFORMATION: Authority for the Tax Counseling for the Elderly (TCE) Program is contained in Section 163 of the Revenue Act of 1978, Public Law 95-600.

Daniel F. Maier,
Chief, Grant Program Office, IRS, Stakeholder Partnerships, Education & Communication.

[FR Doc. 2024-06857 Filed 4-2-24; 8:45 am]

BILLING CODE 4830-01-P